DEPARTMENT OF THE INTERIOR

National Park Service

[NPS-AKRO-ANIA-DENA-CAKR-LACL-KOVA-WRST-GAAR-31255; PPAKAKROR4; PPMPRLE1Y.LS0000]

National Park Service Alaska Region Subsistence Resource Commission Program; Notice of Public Meetings

AGENCY: National Park Service, Interior.

ACTION: Meeting notice.

SUMMARY: The National Park Service (NPS) is hereby giving notice that the Aniakchak National Monument Subsistence Resource Commission (SRC), the Denali National Park SRC, the Cape Krusenstern National Monument SRC, the Lake Clark National Park SRC, the Kobuk Valley National Park SRC, the Wrangell-St. Elias National Park SRC, and the Gates of the Arctic National Park SRC will meet as indicated below.

DATES: The Aniakchak National Monument SRC will meet via teleconference from 1:30 p.m. to 5:00 p.m. or until business is completed on Tuesday, February 2, 2021. The alternate meeting date is Wednesday, February 3, 2021, from 1:30 p.m. to 5:00 p.m. or until business is completed. Teleconference participants must call the NPS office at (907) 246-2154 prior to the meeting to receive teleconference passcode information. For more detailed information regarding these meetings, or if you are interested in applying for SRC membership, contact Designated Federal Officer Mark Sturm, Superintendent, at (907) 246-2120, or via email at mark_sturm@nps.gov, or Linda Chisholm, Subsistence Coordinator, at (907) 246-2154 or via email at linda_chisholm@nps.gov, or Joshua Ream, Federal Advisory Committee Group Federal Officer, at (907) 644-3596 or via email at joshua_ream@nps.gov.

The Denali National Park SRC will meet via teleconference from 10:00 a.m. to 5:00 p.m. or until business is completed on Tuesday, February 23, 2021. The alternate meeting date is Tuesday, March 2, 2021, from 10:00 a.m. to 5:00 p.m. or until business is completed. Teleconference participants must call the NPS office at (907) 644-3604 prior to the meeting to receive teleconference passcode information. For more detailed information regarding these meetings, or if you are interested in applying for SRC membership, contact Designated Federal Officer Brooke Merrell, Superintendent, at (907) 683-9627, or via email at brooke_merrell@nps.gov or Amy Craver, Subsistence Coordinator, at (907) 644-3604 or via email at amy_craver@nps.gov or Joshua Ream, Federal Advisory Committee Group Federal Officer, at (907) 644-3596 or via email at joshua_ream@nps.gov.

The Cape Krusenstern National Monument SRC will meet via teleconference or possibly in person from 1:00 p.m. to 5:00 p.m. on Monday, March 1, 2021, and from 9:00 a.m. to 12:00 p.m. on Tuesday March 2, 2021. The alternate meeting dates are Tuesday, March 9, 2021, from 1:00 p.m. to 5:00 p.m., and Wednesday, March 10, 2021, from 9:00 a.m. to 12:00 p.m. at the same location. Teleconference participants must call the NPS office at (907) 442-8342 prior to the meeting to receive teleconference passcode information. For more detailed information regarding this meeting or if you are interested in applying for SRC membership, contact Designated Federal Officer Maija Lukin, Superintendent, at (907) 442-8301, or via email at maija_lukin@nps.gov or Hannah Atkinson, Cultural Resource Specialist, at (907) 442-8342 or via email at hannah_atkinson@nps.gov or Joshua Ream, Federal Advisory Committee Group Federal Officer, at (907) 644-3596 or via email at joshua_ream@nps.gov.

The Lake Clark National Park SRC will meet via teleconference or possibly in person from 1:00 p.m. to 4:00 p.m. or until business is completed on Wednesday, March 24, 2021. The alternate meeting date is Wednesday, April 7, 2021. Teleconference participants must call the NPS office at (907) 644-3648 prior to the meeting to receive teleconference passcode information. For more detailed information regarding this meeting or if you are interested in applying for SRC membership, contact Designated Federal Officer Susanne Green, Superintendent, at (907) 644-3627, or via email at susanne_green@nps.gov or Liza Rupp, Subsistence Manager, at (907) 644-3648 or via email at elizabeth_rupp@nps.gov or Joshua Ream, Federal Advisory Committee Group Federal Officer, at (907) 644-3596 or via email at joshua_ream@nps.gov.

The Kobuk Valley National Park SRC will meet via teleconference or possibly in person from 1:00 p.m. to 5:00 p.m. on Wednesday, March 3, 2021, and from 9:00 a.m. to 12:00 p.m. on Thursday, March 4, 2021. The alternate meeting dates are Thursday, March 11, 2021, from 1:00 p.m. to 5:00 p.m., and Friday, March 12, 2021, from 9:00 a.m. to 12:00 p.m. at the same location. Teleconference participants must call the NPS office at (907) 442-8342 prior to the meeting to receive teleconference passcode information. For more detailed information regarding this meeting or if you are interested in applying for SRC membership, contact Designated Federal Officer Maija Lukin, Superintendent, at (907) 442-8301, or via email at maija_lukin@nps.gov or Hannah Atkinson, Cultural Resource Specialist, at (907) 442-8342 or via email at hannah_atkinson@nps.gov or Joshua Ream, Federal Advisory Committee Group Federal Officer, at (907) 644-3596 or via email at joshua_ream@nps.gov.

The Wrangell-St. Elias National Park SRC will meet via teleconference and possibly in person from 9:00 a.m. to 5:00 p.m. on Thursday, February 11, 2021, and from 9:00 a.m. to 5:00 p.m. or until business is completed on Friday, February 12, 2021. If business is completed on February 11, 2021, the meeting will adjourn, and no meeting will take place on February 12, 2021. The alternate meeting dates are Monday, March 1, 2021, from 9:00 a.m. to 5:00 p.m., and Tuesday, March 2, 2021, from 9:00 a.m. to 5:00 p.m. or until business is completed at the same location. Teleconference access to the meeting may be requested by calling the NPS office at (907) 822-7236 at least two business days prior to the meeting to receive teleconference passcode information. For more detailed information regarding these meetings, or if you are interested in applying for SRC membership, contact Designated Federal Officer Ben Bobowski, Superintendent, (907) 822-5234, or via email at ben_bobowski@nps.gov or Barbara Cellarius, Subsistence Coordinator, at (907) 822-7236 or via email at barbara_cellarius@nps.gov or Joshua Ream, Federal Advisory Committee Group Federal Officer, at (907) 644-3596 or via email at joshua_ream@nps.gov.

The Gates of the Arctic National Park SRC will meet via teleconference from 8:30 a.m. to 5:00 p.m. or until business is completed on both Wednesday, April 7, 2021, and Thursday, April 8, 2021. The alternate meeting dates are Wednesday, April 14, 2021, from 8:30 a.m. to 5:00 p.m., and Thursday, April 15, 2021, from 8:30 a.m. to 5:00 p.m. or until business is completed. Teleconference participants must call the NPS office at (907) 455-0639 prior to the meeting to receive teleconference passcode information. For more detailed information regarding this meeting or if you are interested in applying for SRC membership, contact Designated Federal Officer Greg Dudgeon, Superintendent, at (907) 457-5752, or via email at greg_dudgeon@nps.gov or Marcy Okada, Subsistence Coordinator, at (907) 455-0639 or via email at marcy_okada@nps.gov or Joshua Ream, Federal Advisory Committee Group Federal Officer, at (907) 644-3596 or via email at joshua_ream@nps.gov.

ADDRESSES: The Aniakchak National Monument SRC will meet via teleconference. The Denali National Park SRC will meet via teleconference. The Cape Krusenstern National Monument SRC will meet in-person in the conference room at the Northwest Arctic Heritage Center, 171 3rd Avenue, Kotzebue, AK 99752. If an in-person meeting is not feasible or advisable, the meeting will be held solely by teleconference. The Lake Clark National Park SRC will meet in-person at the Newhalen School, 900 Schoolhouse Road, Iliamna, AK 99606. If an in-person meeting is not feasible or advisable, the meeting will be held solely by teleconference. The Kobuk Valley National Park SRC will meet in-person in the conference room at the Northwest Arctic Heritage Center, 171 3rd Avenue, Kotzebue, AK 99752. If an in-person meeting is not feasible or advisable, the meeting will be held solely by teleconference. The Wrangell-St. Elias National Park SRC will meet in-person at the NPS office in the Copper Center Visitor Center Complex, Wrangell-St. Elias National Park and Preserve, Mile 106.8 Richardson Highway, Copper Center, AK 99573 and via teleconference. If an in-person meeting is not feasible or advisable, the meeting will be held solely by teleconference. The Gates of the Arctic National Park SRC will meet via teleconference.

SUPPLEMENTARY INFORMATION: The NPS is holding meetings pursuant to the Federal Advisory Committee Act (5 U.S.C. Appendix 1-16). The NPS SRC program is authorized under title VIII, section 808 of the Alaska National Interest Lands Conservation Act (16 U.S.C. 3118).

SRC meetings are open to the public and will have time allocated for public testimony. The public is welcome to present written or oral comments to the SRC. SRC meetings will be recorded and meeting minutes will be available upon request from the Superintendent for public inspection approximately six weeks after the meeting.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Superintendent/Ranger Reports

b. Resource Manager's Report

c. Subsistence Manager's Report

14. Work Session

15. Public and Other Agency Comments

16. Set Tentative Date and Location for Next SRC Meeting

17. Adjourn Meeting.

SRC meeting location and date may change based on inclement weather or exceptional circumstances, including public health advisories or mandates. If the meeting date and location are changed, the Superintendent will issue a press release and use local newspapers and/or radio stations to announce the rescheduled meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2021-00726 Filed 1-13-21; 8:45 am]

BILLING CODE 4312-52-P